DEPARTMENT OF TRANSPORTATION

Federal Aviation Administration

14 CFR Part 39

[Docket No. FAA-2023-1884; Project Identifier MCAI-2023-00482-A; Amendment 39-22554; AD 2023-19-04]

RIN 2120-AA64

Airworthiness Directives; Aircraft Industries, a.s. Airplanes

AGENCY: Federal Aviation Administration (FAA), DOT.

ACTION: Final rule; request for comments.

SUMMARY: The FAA is adopting a new airworthiness directive (AD) for all Aircraft Industries, a.s. Model L-420, L 410 UVP-E20, and L 410 UVP-E20 CARGO airplanes. This AD was prompted by reports of the pressure plates within the main landing gear (MLG) wheel brake unit malfunctioning. This AD requires replacing certain MLG wheel brake units with serviceable parts and prohibits installing an affected part on any airplane. The FAA is issuing this AD to address the unsafe condition on these products.

DATES: This AD is effective October 10, 2023.

The FAA must receive comments on this AD by November 6, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1884; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: Doug Rudolph, Aviation Safety Engineer, FAA, 1600 Stewart Avenue, Suite 410, Westbury, NY 11590; phone: (816) 329-4059; email: doug.rudolph@faa.gov.

SUPPLEMENTARY INFORMATION:

Comments Invited

The FAA invites you to send any written data, views, or arguments about this final rule. Send your comments to an address listed under ADDRESSES. Include “Docket No. FAA-2023-1884; Project Identifier MCAI-2023-00482-A” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Doug Rudolph, Aviation Safety Engineer, FAA, 1600 Stewart Avenue, Suite 410, Westbury, NY 11590. Any commentary that the FAA receives which is not specifically designated as CBI will be placed in the public docket for this rulemaking.

Background

The European Union Aviation Safety Agency (EASA), which is the Technical Agent for the Member States of the European Union, has issued EASA AD 2023-0055, dated March 16, 2023 (referred to after this as the MCAI), to correct an unsafe condition on Aircraft Industries, a.s. Model L-410 M Turbolet, L-410 UVP—Turbolet, L-410 UVP-E, L 410 UVP-E9, L 410 UVP-LW, L 410 UVP-E-LW, L 410 UVP-E20, L 410 UVP-E20 CARGO, and L-420 airplanes, all variants. The MCAI states there were several reports of the MLG wheel brake malfunctioning (blocking). Investigations revealed that all the malfunctions were caused by fractured brake pressure plates, and further analysis by Aircraft Industries, a.s. and the brake unit manufacturer showed that the root-cause of the failure was an improper (re-) design of certain pressure plates installed on certain serial numbers of MLG wheel brake unit part number (P/N) K38-1200-7. This condition, if not detected and corrected, could lead to reduced brake function, resulting in loss of control of the airplane, especially during taxiing, aborted take-off, or landing. The MCAI requires replacing all affected parts with serviceable parts, as defined in the MCAI.

You may examine the MCAI in the AD docket at regulations.gov under Docket No. FAA-2023-1884.

FAA's Determination

These products have been approved by the aviation authority of another country and are approved for operation in the United States. Pursuant to the FAA's bilateral agreement with this State of Design Authority, it has notified the FAA of the unsafe condition described in the MCAI referenced above. The FAA is issuing this AD after determining that the unsafe condition described previously is likely to exist or develop on other products of the same type design.

AD Requirements

This AD requires accomplishing the actions specified in the MCAI described previously, except as discussed under “Differences Between this AD and the MCAI.” This AD also prohibits installing on any airplane an MLG wheel brake unit P/N K38-1200-7 with serial number XXX-35, XXX-36, XXX-37, or XXX-38, where X represents any numerical value.

Differences Between This AD and the MCAI

The MCAI applicability includes Aircraft Industries a.s. Model L-410 M Turbolet, L-410 UVP—Turbolet, L-410 UVP-E, L 410 UVP-E9, L 410 UVP-LW, and L 410 UVP-E-LW airplanes and this AD does not because those airplane models do not have an FAA type certificate.

The MCAI specifies a compliance time based on an affected part's number of flight cycles, but this AD requires a compliance time based on an affected part's hours time-in-service (TIS). When doing the conversion from flight cycles to hours TIS, the FAA has estimated that 1 flight cycle is equal to 1 hour TIS.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are no affected airplanes currently on the U.S. registry. Accordingly, notice and opportunity for prior public comment are unnecessary, pursuant to 5 U.S.C. 553(b)(3)(B). In addition, for the foregoing reason(s), the FAA finds that good cause exists pursuant to 5 U.S.C. 553(d) for making this amendment effective in less than 30 days.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

There are no costs of compliance with this AD because there are no affected airplanes on the U.S. Registry. In the event an affected product becomes a U.S.-registered product, the following is an estimate of the costs to comply with this AD.

Estimated Costs
Action | Labor cost | Parts cost | Cost per product | Cost on U.S. operators
Replace affected MLG wheel brake unit | 8 work-hours × $85 per hour = $680 | $5,000 | $5,680 | $0

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-19-04 Aircraft Industries, a.s.: Amendment 39-22554; Docket No. FAA-2023-1884; Project Identifier MCAI-2023-00482-A.

(a) Effective Date

This airworthiness directive (AD) is effective October 10, 2023.

(b) Affected ADs

None.

(c) Applicability

This AD applies to Aircraft Industries, a.s. Model L-420, L 410 UVP-E20, and L 410 UVP-E20 CARGO airplanes, all serial numbers, certificated in any category.

(d) Subject

Joint Aircraft System Component (JASC) Code 3240, Landing Gear Brake System.

(e) Unsafe Condition

This AD was prompted by reports of the pressure plates within the main landing gear (MLG) wheel brake unit malfunctioning. The FAA is issuing this AD to address MLG wheel brake failures. The unsafe condition, if not addressed, could result in reduced brake function, resulting in loss of control of the airplane, especially during taxiing, aborted take-off, or landing.

(f) Compliance

Comply with this AD within the compliance times specified, unless already done.

(g) Definitions

The following definitions apply to this AD:

(1) An “affected part” is an MLG wheel brake unit part number (P/N) K38-1200-7 having serial number XXX-35, XXX-36, XXX-37, or XXX-38, where X represents any numerical value and where the MLG wheel brake unit has not been modified using sections B. and C. of the Implementation Information in LET Aircraft Industries Service Bulletin L-410/039a, Revision 1, dated October 25, 2022 (LET SB L-410/039a, Revision 1).

(2) A “serviceable part” is an MLG wheel brake unit that is not P/N K38-1200-7 having serial number XXX-35, XXX-36, XXX-37, or XXX-38, where X represents any numerical value or where the MLG wheel brake unit P/N K38-1200-7 having serial number XXX-35, XXX-36, XXX-37, or XXX-38 has been modified using sections B. and C. of the Implementation Information in LET SB L-410/039a, Revision 1.

(h) Required Actions

(1) For airplanes with an affected part installed: Before each affected part accumulates 1,500 hours time-in-service (TIS) since the affected part's first installation on any airplane or within 10 hours TIS after the effective date of this AD, whichever occurs later, replace each affected part with a serviceable part.

(2) As of the effective date of this AD, do not install an affected part on any airplane.

(i) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (j)(2) of this AD or email to: 9-AVS-AIR-730-AMOC@faa.gov. If mailing information, also submit information by email. Before using any approved AMOC, notify your appropriate principal inspector, or lacking a principal inspector, the manager of the local flight standards district office/certificate holding district office.

(j) Additional Information

(1) Refer to European Union Aviation Safety Agency (EASA) AD 2023-0055, dated March 16, 2023, for related information. This EASA AD may be found in the AD docket at regulations.gov under Docket No. FAA-2023-1884.

(2) For more information about this AD, contact Doug Rudolph, Aviation Safety Engineer, FAA, 1600 Stewart Avenue, Suite 410, Westbury, NY 11590; phone: (816) 329-4059; email: doug.rudolph@faa.gov.

(3) For service information identified in this AD that is not incorporated by reference, contact Aircraft Industries, a.s., Na Záhonech 1177, Kunovice, Czech Republic; phone: +420 572 817 664; email: pps@let.cz; website: let.cz/en/bulletin. You may view this service information at the FAA, Airworthiness Products Section, Operational Safety Branch, 901 Locust Street, Kansas City, MO 64106. For information on the availability of this material at the FAA, call (817) 222-5110.

(k) Material Incorporated by Reference

None.

Issued on September 18, 2023.
Victor Wicklund,
Deputy Director, Compliance & Airworthiness Division, Aircraft Certification Service.

[FR Doc. 2023-20554 Filed 9-21-23; 8:45 am]

BILLING CODE 4910-13-P